NUCLEAR REGULATORY COMMISSION

[Docket Nos. 50-250 and 50-251; NRC-2018-0101]

Florida Power & Light Company; Turkey Point Nuclear Generating Unit Nos. 3 and 4

AGENCY: Nuclear Regulatory Commission.

ACTION: Subsequent License Renewal and record of decision.

SUMMARY: The U.S. Nuclear Regulatory Commission (NRC) has issued Subsequent Renewed Facility Operating License Nos. DPR-31 and DPR-41 to Florida Power & Light Company (FPL or licensee), operator of the Turkey Point Nuclear Generating Unit Nos. 3 and 4 (Turkey Point). The NRC has prepared a record of decision (ROD) that supports the NRC's decision to issue Subsequent Renewed Facility Operating License Nos. DPR-31 and DPR-41.

DATES: The Subsequent Renewed Facility Operating License Nos. DPR-31 and DPR-41 were issued on December 4, 2019.

ADDRESSES: Please refer to Docket ID NRC-2018-0101 when contacting the NRC about the availability of information regarding this document. You may obtain publicly- available information related to this document using any of the following methods:

• Federal Rulemaking Website: Go to https://www.regulations.gov/ and search for Docket ID NRC-2018-0101. Address questions about NRC dockets to Jennifer Borges; telephone: 301-287-9127; email: Jennifer.Borges@nrc.gov. For technical questions contact the individual listed in the FOR FURTHER INFORMATION CONTACT section of this document.

• NRC's Agencywide Documents Access and Management System (ADAMS): You may access publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: William Burton, Office of Nuclear Reactor Regulation, U.S. Nuclear Regulatory Commission, Washington, DC 20555-0001; telephone: 301-415-6332, email: William.Burton@nrc.gov.

SUPPLEMENTARY INFORMATION: Notice is hereby given that the NRC has issued Subsequent Renewed Facility Operating License Nos. DPR-31 and DPR-41 to Florida Power & Light Company (FPL or licensee), the operator of Turkey Point Nuclear Generating Unit Nos. 3 and 4 (Turkey Point). Subsequent Renewed Facility Operating License No. DPR-31 authorizes operation of Turkey Point Unit 3 through July 19, 2052, by the licensee at reactor core power levels not in excess of 2,644 megawatts thermal, in accordance with the provisions of the Turkey Point 3 operating license and technical specifications. Subsequent Renewed Facility Operating License No. DPR-41 authorizes operation of Turkey Point Unit 4 through April 10, 2053, by the licensee at reactor core power levels not in excess of 2,644 megawatts thermal, in accordance with the provisions of the Turkey Point 4 operating license and technical specifications. The NRC's ROD that supports the NRC's decision to issue Subsequent Renewed Facility Operating License Nos. DPR-31 and DPR-41 is available in ADAMS under Accession No. ML19309F859.

As discussed in the ROD and the final supplemental environmental impact statement (FSEIS) for Turkey Point, entitled Supplement 5, Second Renewal, to NUREG-1437, “Generic Environmental Impact Statement for License Renewal of Nuclear Plants Regarding Subsequent License Renewal for Turkey Point Nuclear Generating Unit Nos. 3 and 4, Final Report,” dated October 2019 (ADAMS Accession No. ML19290H346), the NRC has considered the reasonably foreseeable impacts of subsequent license renewal for Turkey Point Units 3 and 4, as well as a range of reasonable alternatives that included natural gas combined-cycle (NGCC); NGCC and solar photovoltaic combination; new nuclear; and the no-action alternative. In addition, the staff evaluated the use of mechanical draft cooling towers as a cooling water system alternative to the existing Cooling Canal System (CCS). This analysis compared the environmental impacts of the closed-cycle cooling system approach with the existing CCS. The FSEIS documents the environmental review, including the determination that the adverse environmental impacts of subsequent license renewal for Turkey Point are not so great that preserving the option of subsequent license renewal for energy-planning decisionmakers would be unreasonable.

The Turkey Point nuclear units are located in Miami-Dade County, east of Florida City, Florida. Each unit consists of a Westinghouse pressurized-water reactor nuclear steam supply system. The application for the subsequent renewed licenses dated January 30, 2018 (ADAMS Package Accession No. ML18037A812), as supplemented by letters dated February 9, 2018 (ADAMS Accession No. ML18044A653); February 16, 2018 (ADAMS Package Accession No. ML18053A123); March 1, 2018 (ADAMS Package Accession No. ML18072A224); and April 10, 2018 (ADAMS Accession No. ML18102A521 and ADAMS Package Accession No. ML18113A132). The NRC staff has determined that the application, as supplemented, complies with the standards and requirements of the Atomic Energy Act of 1954, as amended (the Act), and the NRC's regulations. As required by the Act and the NRC's regulations in chapter 1 of title 10 of the Code of Federal Regulations (10 CFR), the NRC has made appropriate findings, which are set forth in the license.

A public notice of the NRC's consideration of the subsequent renewed license application and an opportunity for a hearing was published in the Federal Register on May 2, 2018 (83 FR 19304). Requests for hearing were filed, and an adjudicatory proceeding was then initiated. All contested issues were subsequently decided by an NRC Atomic Safety and Licensing Board (Board) and proceedings before the Board have terminated; appeals from the Board's decisions are pending before the Commission. The ASLB's decisions have not been stayed pending Commission review, and issuance of the subsequent renewed licenses is therefore permissible. The NRC staff has determined that issuance of the subsequent renewed licenses prior to Commission action on the pending appeals would not foreclose or prejudice any action by the Commission.

For further details with respect to this action, see: (1) FPL's subsequent license renewal application for Turkey Point Units 3 and 4, dated January 30, 2018 (ADAMS Package Accession No. ML18037A812), and the above cited supplements; (2) the NRC's safety evaluation report published on July 22, 2019 (ADAMS Accession No. ML19191A057); (3) the NRC's final environmental impact statement (NUREG-1437, Supplement 5, Second Renewal) for Turkey Point Units 3 and 4, dated on October 2019 (ADAMS Accession No. ML19290H346); and (4) the NRC's ROD, issued on December 4, 2019 (ADAMS Accession No. ML19309F859).

Dated at Rockville, Maryland, this 4th day of December 2019.
For the Nuclear Regulatory Commission
Anna H. Bradford,
Director, Division of New and Renewed Licenses, Office of Nuclear Reactor Regulation.

[FR Doc. 2019-26500 Filed 12-9-19; 8:45 am]

BILLING CODE 7590-01-P